DEPARTMENT OF ENERGY

Federal Energy Regulatory Commission

Combined Notice of Filings #1

Take notice that the Commission received the following electric rate filings:

Docket Numbers: ER13-415-001.

Applicants: Anahau Energy, LLC.

Description: Notice of Change in Status of Anahau Energy, LLC.

Filed Date: 11/25/13.

Accession Number: 20131125-5247.

Comments Due: 5 p.m. ET 12/16/13.

Docket Numbers: ER13-2333-000.

Applicants: NorthWestern Corporation.

Description: NorthWestern Corporation submits Refund Report re Service Agreement No 693 to be effective N/A.

Filed Date: 11/26/13.

Accession Number: 20131126-5029.

Comments Due: 5 p.m. ET 12/17/13.

Docket Numbers: ER14-23-001.

Applicants: Northern States Power Company, a Minnesota corporation.

Description: Northern States Power Company, a Minnesota corporation submits 2013-11-26-NSP-MSHL-Repl Meters-564 to be effective 12/2/2013.

Filed Date: 11/26/13.

Accession Number: 20131126-5103.

Comments Due: 5 p.m. ET 12/17/13.

Docket Numbers: ER14-464-000.

Applicants: Southern California Edison Company.

Description: Southern California Edison Company submits 2014 TRBAA Update Filing to be effective 1/1/2014.

Filed Date: 11/26/13.

Accession Number: 20131126-5001.

Comments Due: 5 p.m. ET 12/17/13.

Docket Numbers: ER14-465-000.

Applicants: The Connecticut Light and Power Company.

Description: The Connecticut Light and Power Company submit Bridgeport Energy Localized Cost Responsibility Agreement to be effective 12/1/2013.

Filed Date: 11/26/13.

Accession Number: 20131126-5046.

Comments Due: 5 p.m. ET 12/17/13.

Docket Numbers: ER14-466-000.

Applicants: Public Service Company of New Hampshire.

Description: Public Service Company of New Hampshire submits Bridgeport Energy Localized Cost Responsibility Agreement to be effective 12/1/2013.

Filed Date: 11/26/13.

Accession Number: 20131126-5047.

Comments Due: 5 p.m. ET 12/17/13.

Docket Numbers: ER14-467-000.

Applicants: Western Massachusetts Electric Company.

Description: Western Massachusetts Electric Company submits Bridgeport Energy Localized Cost Responsibility Agreement to be effective 12/1/2013.

Filed Date: 11/26/13.

Accession Number: 20131126-5053.

Comments Due: 5 p.m. ET 12/17/13.

Docket Numbers: ER14-468-000.

Applicants: PJM Interconnection, L.L.C.

Description: PJM Interconnection, L.L.C. submits Queue Position Y2-077; Original Service Agreement No. 3670 to be effective 11/1/2013.

Filed Date: 11/26/13.

Accession Number: 20131126-5081.

Comments Due: 5 p.m. ET 12/17/13.

Docket Numbers: ER14-469-000.

Applicants: Southern California Edison Company.

Description: Southern California Edison Company submits SGIA and Distribution Service Agreement with SEPV Mojave West, LLC to be effective 11/27/2013.

Filed Date: 11/26/13.

Accession Number: 20131126-5086.

Comments Due: 5 p.m. ET 12/17/13.

Docket Numbers: ER14-470-000.

Applicants: Rock River I, LLC.

Description: Rock River I, LLC submits 2nd Revised MBR to be effective 11/27/2013.

Filed Date: 11/26/13.

Accession Number: 20131126-5088.

Comments Due: 5 p.m. ET 12/17/13.

Docket Numbers: ER14-471-000.

Applicants: Cabazon Wind Partners, LLC.

Description: Cabazon Wind Partners, LLC submits 2nd Revised MBR to be effective 11/27/2013.

Filed Date: 11/26/13.

Accession Number: 20131126-5089.

Comments Due: 5 p.m. ET 12/17/13.

Docket Numbers: ER14-472-000.

Applicants: Whitewater Hill Wind Partners, LLC.

Description: Whitewater Hill Wind Partners, LLC submits 2nd Revised MBR to be effective 11/27/2013.

Filed Date: 11/26/13.

Accession Number: 20131126-5090.

Comments Due: 5 p.m. ET 12/17/13.

Docket Numbers: ER14-473-000.

Applicants: New York Independent System Operator, Inc.

Description: New York Independent System Operator, Inc. submits Compliance waiver Order 784 re: 3rd prty prvsn ancllry srvcs to be effective 11/27/2013.

Filed Date: 11/26/13.

Accession Number: 20131126-5096.

Comments Due: 5 p.m. ET 12/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 26, 2013.
Nathaniel J. Davis, Sr.,
Deputy Secretary.

[FR Doc. 2013-29057 Filed 12-4-13; 8:45 am]

BILLING CODE 6717-01-P